DEPARTMENT OF HOMELAND SECURITY

[Docket No. CISA-2024-0005]

Notice of President's National Infrastructure Advisory Council Meeting

AGENCY: Cybersecurity and Infrastructure Security Agency (CISA), Department of Homeland Security (DHS).

ACTION: Notice of partial closure Federal Advisory Committee Act (FACA) meeting; request for comments.

SUMMARY: CISA is publishing this notice to announce the following President's National Infrastructure Advisory Council (NIAC) meeting.

DATES:

Meeting Registration: Registration is required to attend the meeting and must be received no later than 5 p.m. eastern standard time (EST) on December 6, 2024. For more information on how to participate, please contact NIAC@mail.cisa.dhs.gov.

Speaker Registration: Registration to speak during the meeting's public comment period must be received no later than 5 p.m. EST on December 6, 2024.

Written Comments: Written comments must be received no later than 5 p.m. EST on December 6, 2024.

Meeting Date: The NIAC will meet on December 11, 2024, from 1 p.m. to 5:15 p.m. EST. The meeting may close early if the council has completed its business.

ADDRESSES: The National Infrastructure Advisory Council's open session will be held in person at 1650 17th St. NW, Washington, DC; however, members of the public may participate virtually, only. Requests to participate will be accepted and processed in the order in which they are received. For virtual access to the meeting, information on services for individuals with disabilities, or to request special assistance, please email NIAC@mail.cisa.dhs.gov by 5:00 p.m. EST on December 6, 2024. The NIAC is committed to ensuring all participants have equal access regardless of disability status. If you require a reasonable accommodation due to a disability to fully participate, please contact Jonathan Dunn at NIAC@mail.cisa.dhs.gov as soon as possible.

Comments: The council will consider public comments on issues as listed in the SUPPLEMENTARY INFORMATION section below. Associated materials for potential discussions during the meeting will be available for review at https://www.cisa.gov/niac by December 4, 2024. Comments should be submitted by 5 p.m. EST on December 6, 2024, and must be identified by Docket Number CISA-2024-0005. Comments may be submitted by one of the following methods:

• Federal eRulemaking Portal: www.regulations.gov. Please follow the instructions for submitting written comments.

• Email: NIAC@mail.cisa.dhs.gov. Include the Docket Number CISA-2024-0005 in the subject line of the email.

Instructions: All submissions received must include the words “Department of Homeland Security” and the Docket Number for this action. Comments received will be posted without alteration to www.regulations.gov, including any personal information provided. You may wish to read the Privacy & Security Notice which is available via a link on the homepage of www.regulations.gov.

Docket: For access to the docket and comments received by the National Infrastructure Advisory Council, please go to www.regulations.gov and enter docket number CISA-2024-0005.

A public comment period will take place from 3:35 p.m. to 3:45 p.m. EST. Speakers who wish to participate in the public comment period must email NIAC@mail.cisa.dhs.gov to register. Speakers should limit their comments to 3 minutes and will speak in order of registration. Please note that the public comment period may end before the time indicated, depending on the number of speakers who register to participate.

FOR FURTHER INFORMATION CONTACT: Jonathan Dunn, 202-731-1020, NIAC@mail.cisa.dhs.gov.

SUPPLEMENTARY INFORMATION: The NIAC is established under section 10 of E.O. 13231 issued on October 16, 2001, as amended and continued under the authority of E.O. 14109, dated September 29, 2023. Notice of this meeting is given under 10(a)of the Federal Advisory Committee Act (FACA), Public Law 92-463 (5 U.S.C. ch. 10). The NIAC provides the President, through the Secretary of Homeland Security, advice on the security and resilience of the Nation's critical infrastructure sectors.

This meeting will be partially closed to the public, with the closure time of the meeting yet to be determined. Members of the public who register to participate virtually will be informed what portion of the meeting will be closed.

Agenda: The National Infrastructure Advisory Council will meet on Wednesday, December 11, 2024, from 1 p.m. to 5:15 p.m. EST to discuss NIAC activities. The open session will include: (1) public comment period; (2) presentation, deliberation and vote on the Disaster Response and Resiliency Report; (3) presentation, deliberation and vote on the Promoting Infrastructural Health Report; (4) presentation, deliberation and vote on the Expanding Workforce Report.

In the closed session, the meeting time has yet to be determined, senior White House officials will discuss priorities and potential threats concerning the nation's critical Infrastructure. The premature disclosure of this information could frustrate the successful implementation of protective measures designed to keep our country safe. Therefore, this portion of the meeting is required to be closed pursuant to section 10(d) of FACA and the Government in the Sunshine Act, 5 U.S.C. 552b(c)(1).

Dated: November 14, 2024.
Jonathan M. Dunn,
Designated Federal Officer, National Infrastructure Advisory Council, Cybersecurity and Infrastructure Security Agency, Department of Homeland Security.

[FR Doc. 2024-27288 Filed 11-20-24; 8:45 am]

BILLING CODE 9111-LF-P